ENVIRONMENTAL PROTECTION AGENCY

[OPP-2003-0003; FRL-7599-2]

Agency Information Collection Activities; Submission to OMB for Review and Approval; Comment Request; Recordkeeping Requirements for Certified Applicators Using 1080 Collars for Livestock Protection; EPA ICR No. 1249.07, OMB Control No. 2070-0074

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on December 31, 2003. Under OMB regulations, the Agency may continue to conduct or sponsor the collection of information while this submission is pending at OMB. This ICR describes the nature of the information collection and its estimated burden and cost.

DATES: Additional comments may be submitted on or before January 14, 2004.

ADDRESSES: Submit your comments, referencing docket ID number OPP-2003-0003, to (1) EPA online using EDOCKET (our preferred method), by e-mail to http://www.epa.gov/edocket, or by mail to: EPA, Office of Pesticide Programs, Public Information and Records Integrity Branch, 1200 Pennsylvania Ave., NW., Washington, DC 20460, and (2) OMB at: Office of Information and Regulatory Affairs, Office of Management and Budget, Attention: Desk Officer for EPA, 725 17th Street, NW., Washington, DC 20503.

FOR FURTHER INFORMATION CONTACT: Nancy Vogel, Field and External Affairs Division, 7506C, Environmental Protection Agency, 1200 Pennsylvania Ave., NW., Washington, DC 20460; telephone number: 703-305-6475; fax number: 703-305-5884; e-mail address: vogel.nancy@epa.gov.

SUPPLEMENTARY INFORMATION: EPA has submitted the following ICR to OMB for review and approval according to the procedures prescribed in 5 CFR 1320.12. On February 19, 2003, (68 FR 8013), EPA sought comments on this ICR pursuant to 5 CFR 1320.8(d). EPA has addressed the comments received in the ICR.

EPA has established a public docket for this ICR under Docket ID No. OPP-2003-0003, which is available for public viewing at the Pesticides Docket, Rm. 119, Crystal Mall #2, 1921 Jefferson Davis Hwy., Arlington, VA. This docket facility is open from 8:30 a.m. to 4 p.m., Monday through Friday, excluding legal holidays. The docket telephone number is (703) 305-5805.

An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Recordkeeping Requirements for Certified Applicators Using 1080 Collars for Livestock Protection.

Abstract: This information collection activity will enable EPA to obtain the information needed to track the use of registered 1080 collars and the record keeping requirements imposed by an administrative judge in October 1982 and confirmed by the Agency in 1983. This ICR affects the States of Montana, New Mexico, South Dakota, and Wyoming that monitor the program plus one additional registrant. Applicators who are certified to apply Livestock Protection Collars must keep records of: (a) Number of collars purchased; (b) number of collars placed on livestock; (c) number of collars punctured or ruptured; (d) apparent cause of puncture or rupture; (e) number of collars lost or unrecovered; (f) number of collars in use and in storage; and (g) location and species data on each animal poisoned as an apparent result of the toxic collar. This ICR pertains to monitoring activities associated with collar use and to the preparation and submission of an annual monitoring report to EPA that are over and above requirements that are either conditions of registration or obligations associated with the handling and regulation of any restricted use pesticide product.

Applicators maintain records, and the registrants/lead agencies do monitoring studies and submit the reports. These records are monitored by either the State lead agencies or registrants. EPA receives annual monitoring reports from registrants or State lead agencies.

Burden Statement: The annual public reporting and recordkeeping burden for this collection of information is estimated to average about 40 hours per certified applicator, 77 hours per State, and 9 hours per registrant. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Pesticide applicators using 1080 collars for livestock protection; three state agencies; one pesticide registrant.

Estimated Number of Respondents: 40

Frequency of Response: Annual

Estimated Total Annual Hour Burden: 1,753

Estimated Total Annual Cost: $30,460.

Changes in the Estimates: The total annual respondent burden is decreased by 1,600 hours. This change reflects a burden adjustment and is explained in the ICR.

Dated: December 4, 2003.
Doreen Sterling,
Acting Director, Collection Strategies Division.

[FR Doc. 03-30888 Filed 12-12-03; 8:45 am]

BILLING CODE 6560-50-P